FEDERAL ELECTION COMMISSION

Sunshine Act Notice

Date and Time: Thursday, June 24, 2004, 10 a.m.

Place: 999 E Street, NW., Washington, DC (ninth floor).

Status: This meeting will be open to the public.

The Following Item Has Been Added to the Agency: Notice of Proposed Rulemaking on Coordinated and Independent Expenditures by Party Committees (11 CFR 109.35).

Person to Contact for Information: Robert W. Biersack, Acting Press Officer, telephone: (202) 694-1220.

Mary W. Dove,
Secretary of the Commission.

[FR Doc. 04-13918 Filed 6-16-04; 11:10 am]

BILLING CODE 6715-01-M